DEPARTMENT OF COMMERCE

National Oceanic and Atmospheric Administration

Proposed Information Collection; Comment Request; StormReady, TsunamiReady, StormReady/TsunamiReady, and StormReady Supporter Application Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 25, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Rocky Lopes, (301) 427-9380 or Rocky.Lopes@noaa.gov.

SUPPLEMENTARY INFORMATION:

I. Abstract

This request is for revision of a currently approved information collection.

NOAA's National Weather Service would like to add a TsunamiReady Supporter Application Form to its currently approved collection, which includes StormReady, TsunamiReady, StormReady/TsunamiReady, and StormReady Supporter application forms. The title would then change to “StormReady, TsunamiReady, StormReady/TsunamiReady, StormReady Supporter and TsunamiReady Supporter Application Forms”. This new application would be used by entities such as businesses and not-for-profit institutions that may not have the resources necessary to fulfill all the eligibility requirements to achieve the full TsunamiReady recognition. The form will be used to apply for initial TsunamiReady Supporter recognition and renewal of that recognition every five years. The federal government will use the information collected to determine whether an entity has met all of the criteria to receive TsunamiReady Supporter recognition.

II. Method of Collection

Applications may be faxed, mailed or emailed.

III. Data

OMB Control Number: 0648-0419.

Form Number(s): None.

Type of Review: Regular submission (revision of a currently approved information collection).

Affected Public: Business or other for-profit organizations; not-for-profit institutions.

Estimated Number of Respondents: 305.

Estimated Time per Response: Initial applications, 2 hours; renewal applications, 1 hour.

Estimated Total Annual Burden Hours: 565.

Estimated Total Annual Cost to Public: $150 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 19, 2016.
Sarah Brabson,
NOAA PRA Clearance Officer.

[FR Doc. 2016-12247 Filed 5-24-16; 8:45 am]

BILLING CODE 3510-KE-P